DEPARTMENT OF COMMERCE

Foreign-Trade Zones Board

[S-165-2018]

Foreign-Trade Zone 294—Western Kentucky; Application for Subzone Mayfield Consumer Products Mayfield and Hickory, Kentucky

An application has been submitted to the Foreign-Trade Zones (FTZ) Board by the Paducah McCracken County Riverport Authority, grantee of FTZ 294, requesting subzone status for the facilities of Mayfield Consumer Products, located in Mayfield and Hickory, Kentucky. The application was submitted pursuant to the provisions of the Foreign-Trade Zones Act, as amended (19 U.S.C. 81a-81u), and the regulations of the FTZ Board (15 CFR part 400). It was formally docketed on October 11, 2018.

The proposed subzone would consist of the following sites: Site 1 (14.4 acres) 112 Industrial Drive, Mayfield; Site 2 (3.47 acres) 1102 Fulton Road, Mayfield; and, Site 3 (25 acres) 22 Rifle Trail, Hickory Industrial Park, Hickory. A notification of proposed production activity has been submitted and will be published separately for public comment. The proposed subzone would be subject to the existing activation limit of FTZ 294.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is November 26, 2018. Rebuttal comments in response to material submitted during the foregoing period may be submitted during the subsequent 15-day period to December 11, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Elizabeth Whiteman at Elizabeth.Whiteman@trade.gov or (202) 482-0473.

Dated: October 11, 2018.
Andrew McGilvray,
Executive Secretary.

[FR Doc. 2018-22582 Filed 10-16-18; 8:45 am]

BILLING CODE 3510-DS-P